DEPARTMENT OF HOMELAND SECURITY

Federal Emergency Management Agency

[Docket ID FEMA-2022-0002; Internal Agency Docket No. FEMA-B-2226]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alabama:
Madison | City of Huntsville (21-04-3964P) | The Honorable Thomas Battle, Jr., Mayor, City of Huntsville, 308 Fountain Circle, Huntsville, AL 35801 | City Hall, 308 Fountain Circle, Huntsville, AL 35801 | https://msc.fema.gov/portal/advanceSearch | Mar. 28, 2022 | 010153
Madison | Unincorporated areas of Madison County (21-04-3964P) | The Honorable Dale Strong, Chairman, Madison County Commission, 100 North Side Square, Huntsville AL 35801 | Madison County Engineering Department, 266-C Shields Road, Huntsville, AL 35811 | https://msc.fema.gov/portal/advanceSearch | Mar. 28, 2022 | 010151
Shelby | Town of Harpersville (21-04-4025P) | The Honorable Theoanglo Perkins, Mayor, Town of Harpersville, 83 Town Hall Lane, Harpersville, AL 35078 | City Hall, 83 Town Hall Lane, Harpersville, AL 35078 | https://msc.fema.gov/portal/advanceSearch | Mar. 14, 2022 | 010293
Colorado: Boulder | City of Boulder (21-08-0987P) | The Honorable Aaron Brockett, Mayor, City of Boulder, 1777 Broadway, Boulder, CO 80306 | City Hall, 1777 Broadway, Boulder, CO 80306 | https://msc.fema.gov/portal/advanceSearch | Jul. 1, 2022 | 080024
Florida:
Bay | Unincorporated areas of Bay County (21-04-2502P) | The Honorable Robert Carroll, Chairman, Bay County Board of Commissioners, 840 West 11th Street, Panama City, FL 32401 | Bay County Planning Department, 840 West 11th Street, Panama City, FL 32401 | https://msc.fema.gov/portal/advanceSearch | Jun. 21, 2022 | 120004
Monroe | City of Marathon (22-04-0625P) | The Honorable John Bartus, Mayor, City of Marathon, 9805 Overseas Highway, Marathon, FL 33050 | Planning Department, 9805 Overseas Highway, Marathon, FL 33050 | https://msc.fema.gov/portal/advanceSearch | Jun. 21, 2022 | 120681
Palm Beach | City of Westlake (21-04-4443P) | Mr. Kenneth Cassel, Manager, City of Westlake, 4001 Seminole Pratt, Whitney Road, Westlake, FL 33470 | City Hall, 4001 Seminole Pratt, Whitney Road, Westlake, FL 33470 | https://msc.fema.gov/portal/advanceSearch | Jun. 13, 2022 | 120018
Georgia:
Effingham | Unincorporated areas of Effingham County (21-04-1542P) | The Honorable Wesley Corbitt, Chairman at Large, Effingham County, Board of Commissioners, 804 South Laurel Street, Springfield, GA 31329 | Effingham County Administrative Complex South Building, 804 South Laurel Street, Springfield, GA 31329 | https://msc.fema.gov/portal/advanceSearch | Jun. 9, 2022 | 130076
Hall | City of Oakwood (21-04-4607P) | The Honorable Lamar Scroggs, Mayor, City of Oakwood, P.O. Box 99, Oakwood, GA 30566 | Department of Public Works, 4035 Walnut Circle, Oakwood, GA 30566 | https://msc.fema.gov/portal/advanceSearch | Jun. 23, 2022 | 130334
Hall | Unincorporated areas of Hall County (21-04-4607P) | Mr. Jock Connell, Hall County Administrator, P.O. Drawer 1435, Gainesville, GA 30503 | Hall County Engineering Division, 2875 Browns Bridge Road, Gainesville, GA 30503 | https://msc.fema.gov/portal/advanceSearch | Jun. 23, 2022 | 130466
Kentucky: Fayette | Lexington-Fayette Urban County Government (21-04-2906P) | The Honorable Linda Gorton, Mayor, Lexington-Fayette Urban County Government, 200 East Main Street, Lexington, KY 40507 | Engineering Department, 101 East Vine Street, 4th Floor, Lexington, KY 40507 | https://msc.fema.gov/portal/advanceSearch | Jun. 29, 2022 | 210067
Massachusetts:
Plymouth | Town of Marion (21-01-1425P) | The Honorable Norman A. Hills, Chairman, Town of Marion Board of Selectmen, 2 Spring Street, Marion, MA 02738 | Building Department, 2 Spring Street, Marion, MA 02738 | https://msc.fema.gov/portal/advanceSearch | Jun. 17, 2022 | 255213
Plymouth | Town of Mattapoisett (21-01-1425P) | The Honorable Jordan C. Collyer, Chairman, Town of Mattapoisett Board of Selectmen, 16 Main Street, Mattapoisett, MA 02739 | Building Department, 16 Main Street, Mattapoisett, MA 02739 | https://msc.fema.gov/portal/advanceSearch | Jun. 17, 2022 | 255214
Suffolk | City of Revere (21-01-1182P) | The Honorable Brian M. Arrigo, Mayor, City of Revere, 281 Broadway, Revere, MA 02151 | Department of Planning and Development, 281 Broadway, Revere, MA 02151 | https://msc.fema.gov/portal/advanceSearch | May. 12, 2022 | 250288
Montana:
Missoula | City of Missoula (21-08-0781P) | The Honorable John Engen, Mayor, City of Missoula, 435 Ryman Street, Missoula, MT 59802 | Department of Planning and Grants, 435 Ryman Street, Missoula, MT 59802 | https://msc.fema.gov/portal/advanceSearch | Jun. 27, 2022 | 300049
Missoula | Unincorporated areas of Missoula County (21-08-0781P) | The Honorable Juanita Vero, Chair, Missoula County, Board of Commissioners, 200 West Broadway Street, Missoula, MT 59802 | Missoula County Community and Planning Services Department, 323 West Alder Street, Missoula, MT 59802 | https://msc.fema.gov/portal/advanceSearch | Jun. 27, 2022 | 300048
North Dakota:
Cass | City of Mapleton (21-08-0692P) | The Honorable Andrew Draeger, Mayor, City of Mapleton, 651 2nd Street, Mapleton, ND 58059 | Moore Engineering Inc., 1042 14th Avenue, Suite 101, West Fargo, ND 58076 | https://msc.fema.gov/portal/advanceSearch | Jun. 16, 2022 | 380023
Cass | Township of Durbin (21-08-0692P) | The Honorable Keith Gohdes, Chairman, Township of Durbin Board of Commissioners, 3747 160th 1/2 Avenue Southeast, Mapleton, ND 58079 | Township Hall, 3768 157 R Avenue, Southeast, Casselton, ND 58012 | https://msc.fema.gov/portal/advanceSearch | Jun. 16, 2022 | 380325
South Carolina:
Jasper | City of Hardeeville (21-04-4372P) | Mr. Michael J. Czymbor, Manager, City of Hardeeville, P.O. Box 609, Hardeeville, SC 29927 | City Hall, 205 Main Street, Hardeeville, SC 29927 | https://msc.fema.gov/portal/advanceSearch | Jun. 30, 2022 | 450113
Jasper | Unincorporated areas of Jasper County (21-04-4372P) | The Honorable Barbara Clark, Chair, Jasper County Council, 358 3rd Avenue, Ridgeland, SC 29936 | Jasper County Planning and Building Services Department, 358 3rd Avenue, Ridgeland, SC 29936 | https://msc.fema.gov/portal/advanceSearch | Jun. 30, 2022 | 450112
Texas:
Bell | Unincorporated areas of Bell County (21-06-2729P) | The Honorable David Blackburn, Bell County Judge, P.O. Box 768, Belton, TX 76513 | Bell County Engineering Department, 206 North Main Street, Belton, TX 76513 | https://msc.fema.gov/portal/advanceSearch | Jun. 27, 2022 | 480706
Bexar | City of San Antonio (21-06-0342P) | The Honorable Ron Nirenberg, Mayor, City of San Antonio, P.O. Box 839966, San Antonio, TX 78283 | Transportation and Capitol Improvements Department, Storm Water Division, 114 West Commerce Street, 7th Floor, San Antonio, TX 78205 | https://msc.fema.gov/portal/advanceSearch | Jun. 6, 2022 | 480045
Bexar | Unincorporated areas of Bexar County (21-06-1869P) | The Honorable Nelson W. Wolff, Bexar County Judge, 101 West Nueva Street, 10th Floor, San Antonio, TX 78205 | Bexar County Public Works Department, 1948 Probandt Street, San Antonio, TX 78214 | https://msc.fema.gov/portal/advanceSearch | Jun. 13, 2022 | 480035
Harris | Unincorporated areas of Harris County (21-06-1628P) | The Honorable Lina Hidalgo, Harris County Judge, 1001 Preston Street, Suite 911, Houston, TX 77002 | Harris County Permits Office, 10555 Northwest Freeway, Suite 120, Houston, TX 77002 | https://msc.fema.gov/portal/advanceSearch | May 31, 2022 | 480287
Parker | Unincorporated areas of Parker County (21-06-2184P) | The Honorable Patrick Deen, Parker County Judge, 1 Courthouse Square, Weatherford, TX 76086 | Parker County, Permitting Department, 1 Courthouse Square, Weatherford, TX 76086 | https://msc.fema.gov/portal/advanceSearch | Jun. 8, 2022 | 480520
Virginia: Buchanan | Town of Grundy (21-03-1165P) | Mr. Dennis A. Ramey, Manager, Town of Grundy, 1185 Plaza Drive, Grundy, VA 24614 | Department of Public Works, 1185 Plaza Drive, Grundy, VA 24614 | https://msc.fema.gov/portal/advanceSearch | Jun. 17, 2022 | 510025

[FR Doc. 2022-05922 Filed 3-18-22; 8:45 am]

BILLING CODE 9110-12-P